ENVIRONMENTAL PROTECTION AGENCY

[EPA-HQ-OECA-2013-0332; FRL-10018-82-OMS]

Information Collection Request Submitted to OMB for Review and Approval; Comment Request; NSPS for Small Industrial-Commercial-Institutional Steam Generating Units (Renewal)

AGENCY: Environmental Protection Agency (EPA).

ACTION: Notice.

SUMMARY: The Environmental Protection Agency has submitted an information collection request (ICR), NSPS for Small Industrial-Commercial-Institutional Steam Generating Units (EPA ICR Number 1564.11, OMB Control Number 2060-0202), to the Office of Management and Budget (OMB) for review and approval in accordance with the Paperwork Reduction Act. This is a proposed extension of the ICR, which is currently approved through February 28, 2021. Public comments were previously requested via the Federal Register on May 12, 2020 during a 60-day comment period. This notice allows for an additional 30 days for public comments. A fuller description of the ICR, including its estimated burden and cost to the public, is given below. An agency may neither conduct nor sponsor, and a person is not required to respond to, a collection of information unless it displays a currently valid OMB control number.

DATES: Additional comments may be submitted on or before February 10, 2021.

ADDRESSES: Submit your comments, referencing Docket ID Number EPA-HQ-OECA-2013-0332, to EPA online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person, at the EPA Docket Center, WJC West, Room 3334, 1301 Constitution Ave. NW, Washington, DC. The telephone number for the Docket Center is 202-566-1744. For additional information about EPA's public docket, visit: http://www.epa.gov/dockets.

Abstract: Owners and operators of affected facilities are required to comply with reporting and record keeping requirements for the General Provisions (40 CFR part 60, subpart A), as well as for the specific requirements at 40 CFR part 60, subpart Dc. This includes submitting initial notifications, performance tests and periodic reports and results, and maintaining records of the occurrence and duration of any startup, shutdown, or malfunction in the operation of an affected facility, or any period during which the monitoring system is inoperative. These reports are used by EPA to determine compliance with these standards.

Form Numbers: None.

Respondents/affected entities: Owners or operators of small industrial-commercial-institutional steam generators with maximum design heat input capacity of 29 megawatts (MW) or less, but greater than or equal to 2.9 MW.

Respondent's obligation to respond: Mandatory (40 CFR part 60, subpart Dc).

Estimated number of respondents: 323 (total).

Frequency of response: Initially and semiannually.

Total estimated burden: 219,000 hours (per year). Burden is defined at 5 CFR 1320.3(b).

Total estimated cost: $38,300,000 (per year), which includes $12,600,000 in annualized capital/setup and/or operation & maintenance costs.

Changes in the Estimates: There is an adjustment increase in the respondent burden and O&M cost from the most-recently approved ICR due to an increase in the number of respondents. This ICR assumes an industry growth rate of 11 respondents per year, or an increase of 33 respondents, since the last ICR renewal period, which results in an increase in burden and the number of responses submitted. The industry growth also results in an increase in O&M costs. This ICR also maintains a continuous growth rate of 11 respondents per year over the next three years. Because the number of new sources anticipated over the next three years has not changed, there is no increase in the anticipated capital costs reflected in this ICR.

Courtney Kerwin,
Director, Regulatory Support Division.

[FR Doc. 2021-00245 Filed 1-8-21; 8:45 am]

BILLING CODE 6560-50-P